DEPARTMENT OF DEFENSE

Department of the Navy

Notice of Availability of Record of Decision for the Northwest Training and Testing Supplemental Environmental Impact Statement/Overseas Environmental Impact Statement

AGENCY: Department of the Navy, DoD.

ACTION: Notice.

SUMMARY: The United States Department of the Navy (DON), after carefully weighing the operational and environmental consequences of the Proposed Action, is announcing its decision to continue training and testing activities as identified in Alternative 1 in the Northwest Training and Testing (NWTT) Final Supplemental Environmental Impact Statement/Overseas Environmental Impact Statement (EIS/OEIS), dated September 2020. Under Alternative 1, the U.S. Navy will be able to fully meet current and future training and testing requirements.

SUPPLEMENTARY INFORMATION: Alternative 1 is the DON's preferred alternative and includes changes in the types and tempo of training and testing activities at sea and in associated airspace to meet current and future military readiness requirements. Alternative 1 reflects a representative year of training and testing activities to account for the natural fluctuation of training cycles, testing programs, and deployment schedules that generally limit the maximum level of training and testing from occurring in the reasonably foreseeable future. The complete text of the Record of Decision (ROD) is available on the project website at www.NWTTEIS.com, along with the September 2020 NWTT Final Supplemental EIS/OEIS and supporting documents. Single copies of the ROD are available upon request by contacting: Naval Facilities Engineering Command Northwest, Attn: NWTT Supplemental EIS/OEIS Project Manager, 3730 N Charles Porter Avenue, Building 385, Oak Harbor, WA 98278-3500.

Dated: September 24, 2021.
J.M. Pike,
Commander, Judge Advocate General's Corps, U.S. Navy, Federal Register Liaison Officer.

[FR Doc. 2021-21181 Filed 9-30-21; 8:45 am]

BILLING CODE 3810-FF-P